FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011728.

Title: Maersk Sealand/APL Mediterranean Slot Charter Agreement

Parties:

A.P. Moller-Maersk Sealand (“MSL”)

APL Co. Pte. Ltd. and American President Lines, Ltd. (collectively, “APL”)

Synopsis: The proposed agreement authorizes MSL to charter slots to APL in the trade between U.S. East and Gulf Coasts ports and ports in the Mediterranean, including ports in Spain, Malta, and Italy.

By Order of the Federal Maritime Commission.
Dated: October 6, 2000.
Bryant L. VanBrakle,
Secretary.

[FR Doc. 00-26231 Filed 10-11-00; 8:45 am]

BILLING CODE 6730-01-P